FEDERAL ACCOUNTING STANDARDS ADVISORY BOARD

Notice of Request for Comment on FASAB Staff's Proposed Staff Implementation Guidance 6.1, Clarification of Paragraphs 40-41 of SFFAS 6, Accounting for Property, Plant, and Equipment, as amended

AGENCY: Federal Accounting Standards Advisory Board.

ACTION: Notice.

Pursuant to 31 U.S.C. 3511(d), the Federal Advisory Committee Act (Pub. L. 92-463), as amended, and the FASAB Rules Of Procedure, as amended in October 2010, notice is hereby given that the Federal Accounting Standards Advisory Board (FASAB) staff have issued proposed Staff Implementation Guidance (SIG) 6.1, Clarification of Paragraphs 40-41 of SFFAS 6, Accounting for Property, Plant, and Equipment, as amended, for public comment.

The proposed SIG is available on the FASAB website at http://www.fasab.gov/documents-for-comment/. Copies can be obtained by contacting FASAB at (202) 512-7350.

FASAB staff requests comments on the proposal by May 31, 2018. Please respond if you agree or disagree with the SIG or foresee unintended consequences with its issuance. Respondents are encouraged to provide the reasons for their positions. Written comments should be sent to fasab@fasab.gov or Wendy M. Payne, Executive Director, Federal Accounting Standards Advisory Board, 441 G Street NW, Suite 1155, Washington, DC 20548.

FOR FURTHER INFORMATION CONTACT: Ms. Wendy M. Payne, Executive Director, 441 G Street NW, Suite 1155, Washington, DC 20548, or call (202) 512-7350.

Authority: Federal Advisory Committee Act, Public Law 92-463.

Dated: May 14, 2018.
Wendy M. Payne,
Executive Director.

[FR Doc. 2018-10663 Filed 5-17-18; 8:45 am]

BILLING CODE 1610-02-P